DEPARTMENT OF TRANSPORTATION

Federal Aviation Administration

14 CFR Part 71

[Docket No. FAA-2003-15471; Airspace Docket No. 03-AWA-6]

RIN 2120-AA66

Modification of the Minneapolis Class B Airspace Area; MN

AGENCY: Federal Aviation Administration (FAA), DOT.

ACTION: Final rule; correction.

SUMMARY: This action corrects a final rule published in the Federal Register on November 28, 2005 (70 FR 71233), Airspace Docket No. 03-AWA-6, FAA Docket No. FAA-2003-15471. In that rule, inadvertent errors were made in the legal description of the Minneapolis Class B airspace area. This action corrects those errors.

EFFECTIVE DATE: 0901 UTC, February 16, 2006.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

Background

On November 28, 2005, a final rule was published in the Federal Register modifying the Minneapolis, MN Class B Airspace Area (70 FR 71233), Airspace Docket No. 03-AWA-6, FAA Docket No. FAA-2003-15471. In that final rule, inadvertent errors were made in the legal descriptions for some of the areas; in that, the radials (from navigational aids) were listed in degrees magnetic rather than true. Normally, radials contained in a legal description are expressed in degrees true rather than magnetic. This eliminates the need for periodic rulemaking to update the radials as magnetic variation changes over time. Radials contained in the legal description are then converted from true to magnetic for charting purposes. However, because the legal description in this rule listed magnetic values rather than true, it became evident that the charted radials were not in the same locations as presented in the public meetings, studied by the ad hoc committee, and depicted in the Notice of Proposed Rulemaking (NPRM) and final rule. This action corrects the radials contained in the legal description to degrees true. This will align the charted depiction of the airspace with the intent of the Minneapolis Class B airspace area modification. When these new radials are converted and depicted on aeronautical charts, they will be the same numerical values as those presented in public meetings, studied by the ad hoc committee, and contained in the NPRM and final rule.

Due to the significant impact that the erroneous Class B boundary locations would have on aircraft operations surrounding the MSP terminal area, the FAA finds good cause, pursuant to 5 U.S.C. 553(d), for making this amendment effective in less than 30 days in order to promote the safe and efficient handling of air traffic in the area.

Corrections to Final Rule

Accordingly, pursuant to the authority delegated to me, the legal description for the Minneapolis Class B Airspace Area, as published in the Federal Register on November 28, 2005, (70 FR 71233), Docket No. 03-AWA-6, FAA Docket No. FAA-2003-15471, and incorporated in 14 CFR 71.1, is corrected as follows:

PART 71—[AMENDED]

§ 71.1 [Amended]

On page 71233, correct the legal description of the Minneapolis Class B Airspace, to read as follows:

Paragraph 3000 Class B Airspace

* * * * *

AGL MN B Minneapolis, MN [Corrected]

Minneapolis-St. Paul International (Wold-Chamberlain) Airport (Primary Airport)

(Lat. 44°53′00″ N., long. 93°13′01″ W.)

Gopher VORTAC

(Lat. 45°08′45″ N., long. 93°22′24″ W.)

Flying Cloud VOR/DME

(Lat. 44°49′33″ N., long. 93°27′24″ W.)

Point of Origin: Minneapolis-St. Paul International (Wold-Chamberlain) Airport DME Antenna (I-MSP DME)

(Lat. 44°52′28″ N., long. 93°12′24″ W.)

Boundaries.

Area A. That airspace extending upward from the surface to and including 10,000 feet MSL within a 6-mile radius of I-MSP DME.

Area B. That airspace extending from 2,300 feet MSL to and including 10,000 feet MSL within an 8.5-mile radius of I-MSP DME, excluding Area A previously described.

Area C. That airspace extending from 3,000 feet MSL to and including 10,000 feet MSL within a 12-mile radius of I-MSP DME, excluding Area A and Area B previously described.

Area D. That airspace extending from 4,000 feet MSL to and including 10,000 feet MSL within a 20-mile radius of I-MSP DME and including that airspace within a 30-mile radius from the Flying Cloud 301° radial clockwise to the Gopher 301° radial and from the Gopher 121° radial clockwise to the Flying Cloud 121° radial, excluding Area A, Area B, and Area C previously described.

Area E. That airspace extending from 7,000 feet MSL to and including 10,000 feet MSL within a 30-mile radius of I-MSP DME from the Gopher 301° radial clockwise to the Gopher 358° radial, and from the Gopher 091° radial clockwise to the Gopher 121° radial, and from the Flying Cloud 121° radial clockwise to the Gopher 166° radial, and from the Gopher 176° radial clockwise to the Flying Cloud 301° radial excluding that airspace between a 25-mile radius and a 30-mile radius of I-MSP DME from the Flying Cloud 121° radial clockwise to the Gopher 166° radial, and excluding Area A, Area B, Area C, and Area D previously described.

Area F. That airspace extending from 6,000 feet MSL to and including 10,000 feet MSL within a 30-mile radius of I-MSP DME from the Gopher 166° radial clockwise to the Gopher 176° radial, excluding Area A, Area B, Area C, and Area D previously described.

* * * * *

Issued in Washington, DC, on January 25, 2006.
Kenneth McElroy,
Acting Manager, Airspace and Rules.

[FR Doc. 06-900 Filed 1-30-06; 8:45 am]

BILLING CODE 4910-13-P